COMMITTEE FOR THE IMPLEMENTATION OF TEXTILE AGREEMENTS

Establishment of an Import Level and Staged Entry Procedures for Shipments of Cotton, Wool and Man-Made Fiber Socks (Categories 332/432/632 part) Produced or Manufactured in the People's Republic of China.

November 4, 2005.

AGENCY: Committee for the Implementation of Textile Agreements (CITA).

ACTION: Directive to Commissioner, Bureau of Customs and Border Protection.

EFFECTIVE DATE: November 1, 2005.

FOR FURTHER INFORMATION CONTACT: Ross Arnold, International Trade Specialist, Office of Textiles and Apparel, U.S. Department of Commerce, (202) 482-3400.

SUPPLEMENTARY INFORMATION:

Authority: Section 204 of the Agricultural Act of 1956, as amended (7 U.S.C. 1854); Executive Order 11651 of March 3, 1972, as amended.

In the letter published below, the Chairman of CITA directs the Commissioner, U.S. Customs and Border Protection, to establish the following import level and staged entry procedures.

Pursuant to the Memorandum of Understanding, signed and dated November 1, 2005, between the Governments of the United States and the People's Republic of China, the Government of the United States is controlling imports of Chinese-origin cotton, wool and man-made fiber socks (Categories 332/432/632 part) exported from China during the period from November 1, 2005 through December 31, 2005,at a level of 10,298,023 dozen pairs. This agreed level which was reached on November 1, 2005, as a result of consultations between the Government of the United States and the People's Republic of China, under the provisions of Paragraph 242 of the Report of the Working Party for the Accession of China to the World Trade Organization, concerns trade in Chinese-origin cotton, wool and man-made fiber socks. There is no requirement for a textile visa or for an Electronic Visa Information System (ELVIS) transmission for entry of these products.

Consistent with previously established practice for restraints established under paragraph 242 of the Report of the Working Party for the Accession of China to the World Trade Organization, shipments in excess of this agreed level will be subject to delayed and staged entry. Specifically, shipments in excess of this level will not be allowed entry prior to February 1, 2006, at which time, shipments totaling no more than 5 percent of this quota (514,901 dozen pairs) will be allowed entry for the month. An additional 5 percent will be allowed entry each succeeding month until all overshipments are allowed entry.

Shipments in excess of the safeguard limit for socks exported from China during the period of October 29, 2004 through October 28, 2005 remain subject to the staged entry quota and procedures established in a notice and letter to the Commissioner, U.S. Customs and Border Protection, published in the Federal Register. See 70 FR 21399 (April 26, 2005). This is separate from the agreed level and staged entry level for goods exported from China during the period of November 1, 2005 through December 31, 2005.

James C. Leonard III,
Chairman, Committee for the Implementation of Textile Agreements.

Committee for the Implementation of Textile Agreements

November 4, 2005.

Commissioner,

Bureau of Customs and Border Protection, Washington, DC 20229.

Dear Commissioner: Pursuant to the Memorandum of Understanding between the Governments of the United States of America and the People's Republic of China, concerning exports to the United States of socks during the period from November 1, 2005 through December 31, 2005, you are directed to prohibit, effective November 1, 2005, entry into the United States for consumption and withdrawal from warehouse for consumption of cotton, wool and man-made fiber socks in Category 332/432/632 part, produced or manufactured in the People's Republic of China, during the two month period beginning on November 1, 2005 and extending through December 31, 2005 in excess of 10,298,023 dozen pairs ¹. Products which have been exported from China prior to November 1, 2005, shall not be subject to the limit established in this directive.

¹ Category 632 Part; Socks: only HTS numbers 6115.93.6020, 6115.93.9020, 6115.99.1420 and 6115.99.1820

In carrying out the above directions, the Commissioner should construe entry into the United States for consumption to include entry for consumption into the Commonwealth of Puerto Rico. The Committee for the Implementation of Textile Agreements has determined that this action falls within the foreign affairs exception of the rulemaking provisions of 5 U.S.C. 553(a)(1).

This directive also provides instructions on permitting entry of goods shipped in excess of the agreed level on socks in categories 332/432/632 part, which covers goods exported from China during the period of November 1, 2005 through December 31, 2005. For all shipments exported from China that exceed that level, you are directed to deny entry until February 1, 2006, subject to the following procedure. From February 1 through February 28, 2006, you are directed to permit entry of goods in an amount equal to 5 percent (514,901 dozen pairs) of the agreed level of 10,298,023 dozen pairs. For each succeeding period, beginning on the first of the month, and extending through the last day of the month, you are to permit entry of goods in an amount equal to 514,901 dozen pairs until all shipments in excess of the agreed level have been entered.

The following clarifies the precise quantity to be allowed entry each month for staged entry of overshipments of the safeguard which covered exports from China during the period of October 29, 2004 through October 28, 2005. The agreed level and staged entry procedures for goods exported from China during the period from November 1, 2005 through December 31, 2005 do not affect goods shipped in excess of the safeguard limit on socks which covered exports from China during the period of October 29, 2004 through October 28, 2005, which remain subject to the staged entry procedures which were set forth in a separate directive, dated April 26, 2005. That directive provided that shipments in excess of the limit for the period of October 29, 2004 through October 28, 2005 will be denied entry until November 29, 2005, and at that time no more than 5 percent (2,121,700 dozen pairs) will be allowed entry from the period of November 29, 2005 through December 28, 2005. For each succeeding period, beginning on the 29th of the month, and extending through the 28th of the following month, you are directed to permit entry of goods in an amount equal to 2,121,700 dozen pairs, until all shipments in excess of the safeguard limit which covered exports from China during the period of October 29, 2004 through October 28, 2005 have been entered.

The Committee for the Implementation of Textile Agreements has determined that this action falls within the foreign affairs exception to the rulemaking provisions of 5 U.S.C. 553(a)(1).

Sincerely,

James C. Leonard III,

Chairman, Committee for the Implementation of Textile Agreements.

[FR Doc.05-22426 Filed 11-4-05; 4:50 pm]

BILLING CODE 3510-DS